DEPARTMENT OF ENERGY

Federal Energy Regulatory Commission

[Docket No. TX96-2-004]

City of College Station, TX; Notice of Filing

June 25, 2002.

Take notice that on June 14, 2002, the Texas Municipal Power Agency (TMPA) tendered for filing with the with the Federal Energy Regulatory Commission (Commission), its compliance filing required by the Commission's February 16, 1999, Final Order Establishing Rates, Terms and Conditions of Transmission Services in City of College Station, Texas, 86 with the FERC ¶ 61,165 (1999)

TMPA states that it will provide transmission service to the City of College Station (College Station) under the terms and conditions of TMPA's currently effective Public Utility Commission of Texas (Texas Commission) tariff for wholesale transmission services.

TMPA also states that, since January 1, 2000, it has been providing transmission service to College Station for the postage stamp rates contained in its currently effective Texas Commission tariff. TMPA states that it will continue to charge College Station those rates, subject to an adjustment for regulatory expenses associated with the proceeding in Docket No. TX96-2-000. TMPA attaches a pro forma tariff sheet, which provides College Station the option of reimbursing TMPA for those regulatory expenses through either a lump sum payment payable 30 days after the tariff sheet's effectiveness, or through thirty-six (36) equal monthly payments to be made over the three-year period following the effectiveness of the tariff sheet.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: July 5, 2002.

Linwood A. Watson, Jr.,
Deputy Secretary.

[FR Doc. 02-16496 Filed 6-28-02; 8:45 am]

BILLING CODE 6717-01-P